DEPARTMENT OF HOMELAND SECURITY

Coast Guard

[Docket No. USCG-2020-0041]

National Merchant Marine Personnel Advisory Committee; Vacancy

AGENCY: U.S. Coast Guard, Department of Homeland Security.

ACTION: Request for applications; Re-solicitation for members credentialed with ratings.

SUMMARY: The Coast Guard is re-soliciting applications from persons interested in membership on the National Merchant Marine Personnel Advisory Committee (Committee). This recently established Committee will advise the Secretary of the Department of Homeland Security on matters relating to personnel in the United States merchant marine, including the training, qualifications, certification, documentation, and fitness of mariners. Please read the notice for description of Committee positions we are seeking to fill.

DATES: Your completed application should reach the Coast Guard on or before August 14, 2020.

ADDRESSES: Applicants should send a cover letter expressing interest in an appointment to the Committee and a resume detailing their experience. We will not accept a biography.

Applications should be submitted: via the following method:

• By Email: Megan.C.Johns@uscg.mil. Subject Line: N-MERPAC (preferred)

FOR FURTHER INFORMATION CONTACT: Megan Johns Henry, Alternate Designated Federal Officer of the Merchant Marine Personnel Advisory Committee; Telephone 202-372-1255; or Email at Megan.C.Johns@uscg.mil.

SUPPLEMENTARY INFORMATION: On May 15, 2020, the Coast Guard published a request in the Federal Register (85 FR 29467) for applications for membership in the National Merchant Marine Personnel Advisory Committee. Due to a lack of applications received for the membership positions representing credentialed ratings, the Coast Guard is re-soliciting applications from persons interested in membership on the National Merchant Marine Personnel Advisory Committee. Applicants who responded to the initial notice do not need to reapply.

The National Merchant Marine Personnel Advisory Committee is a Federal advisory committee. It will operate under the provisions of the Federal Advisory Committee Act, 5 U.S.C. Appendix, and the administrative provisions in Section 601 of the Frank LoBiondo Coast Guard Authorization Act of 2018 (specifically, 46 U.S.C. 15109).

The Committee was established on December 4, 2019, by the Frank LoBiondo Coast Guard Authorization Act of 2018, which added section 15103, National Merchant Marine Personnel Advisory Committee, to Title 46 of the U.S. Code. The Committee will advise the Secretary of Homeland Security on matters relating to personnel in the United States merchant marine, including the training, qualifications, certification, documentation, and fitness of mariners.

The Committee is required to meet at least once a year in accordance with 46 U.S.C. 15109(a). We expect the Committee to meet at least twice a year, but it may meet more frequently. The meetings are generally held in cities that have high concentrations of maritime personnel and related marine industry businesses.

All members serve at their own expense and receive no salary or other compensation from the Federal Government. Members may be reimbursed, however, for travel and per diem in accordance with Federal Travel Regulations.

Under provisions in 46 U.S.C. 15109(f)(6), if you are appointed as a member of the Committee, your membership term will expire on December 31 of the third full year after the effective date of your appointment. The Secretary may require an individual to have passed an appropriate security background examination before appointment to the Committee, 46 U.S.C. 15109(f)(4).

In this solicitation for Committee members, we will consider applications for positions, which include:

• United States citizens holding active licenses or certificates issued under 46 U.S.C. chapter 71 or merchant mariner documents issued under 46 U.S.C. chapter 73, including two credentialed with ratings: one of which shall be endorsed as an able bodied seamen; and one that shall be endorsed as a qualified member of the engine department.

The Department of Homeland Security does not discriminate in selection of Committee members based on race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Megan Johns Henry, Alternate Designated Federal Officer of the National Merchant Marine Personnel Advisory Committee via one of the transmittal methods in the ADDRESSES section by the deadline in the DATES section of this notice. When you send your application to us via email, we will send you an email confirming receipt of your application.

Dated: July 28, 2020.
Jeffrey G. Lantz,
Director of Commercial Regulations and Standards.

[FR Doc. 2020-16652 Filed 7-30-20; 8:45 am]

BILLING CODE 9110-04-P